DEPARTMENT OF DEFENSE

Department of the Army; Corps of Engineers

Intent To Prepare a Draft Environmental Impact Statement for the Currituck Sound Ecosystem Restoration Feasibility Study

AGENCY: Department of the Army, U.S. Army Corps of Engineers.

ACTION: Notice of Intent.

SUMMARY: The U.S. Army Corps of Engineers (USACE) intends to prepare a Draft Environmental Impact Statement (DEIS) for the Currituck Sound Ecosystem Restoration Feasibility Study. The feasibility study is a cost-shared effort, being conducted in partnership with the North Carolina Division of Water Resources (NCDWR), to recommend Federal actions for ecosystem restoration in Currituck Sound. The study is taking a watershed perspective to develop and evaluate alternatives to restore and enhance ecosystem resources in a holistic, collaborative manner, and to ensure full participation of all stakeholders. Significant environmental resources to be addressed during project studies and in the DEIS include, but are not limited to: (1) Endangered and threatened species; (2) Marine and estuarine resources; (3) Fish and wildlife and their habitats, including essential fish habitat; (4) Water quality; (5) Socioeconomic resources; and (6) Cultural resources. Efforts will be made to enhance resource conditions and minimize adverse impacts.

The lead Federal agency for this study is the USACE, Wilmington District. As stated above, the NCDWR is the lead State agency and a full cost-sharing partner in the conduct of this study. The DEIS is being prepared in accordance with the requirements of the National Environmental Policy Act (NEPA) of 1969, as amended, and will address the relationship of the proposed action to all other applicable Federal and State Laws and Executive Orders. The DEIS is currently scheduled for distribution to the public February 2012.

FOR FURTHER INFORMATION CONTACT: Questions about the proposed action and DEIS can be answered by Mr. Doug Piatkowski, Environmental Resources Section; U.S. Army Engineer District, Wilmington; 69 Darlington Avenue, Wilmington, North Carolina 28403; telephone (910) 251-4908.

SUPPLEMENTAL INFORMATION.

1. Authority. The feasibility study is being carried out under the Corps of Engineers' General Investigation Program and is being conducted in response to the following House resolution adopted March 11, 1998:

Resolved by the Committee on Transportation and Infrastructure of the United States House of Representatives, that the Secretary of the Army is requested to review the report of the Division Engineer dated June 25, 1991, on Eastern North Carolina above Cape Lookout, North Carolina, and other pertinent reports, to determine whether modifications to the recommendations contained therein are advisable at the present time in the interest of water quality, environmental restoration and protection, and related purposes in Currituck Sound.

2. Project Purpose. The project purpose is to maintain, restore, and enhance vital aquatic habitats of the Currituck Sound to ensure the survival of wildlife and fisheries. These habitats include: the estuarine water column, wetlands including coastal marsh and shrub buffers, submerged aquatic vegetation, and bird nesting islands.

3. Alternatives. This study will investigate the following alternatives: No action alternative, creation, enhancement, or protection of marsh islands and/or back barrier marsh including creation and/or restoration of bird nesting habitat; construction of vegetative buffers along riparian drainages; removal and/or control of exotic and invasive species; and protection and establishment of SAV habitats. The final outcome of this study would be a feasibility report and an Environmental Impact Statement (EIS), which would recommend projects for construction authorization.

4. Public Involvement. Public participation in the EIS process will be strongly encouraged both formally and informally, to support the formulation of a more technically feasible and socially and politically acceptable ecosystem restoration project. Public involvement activities for this study will include but are not limited to: periodic dissemination of information and study findings via meetings and the Wilmington District web site; identification of restoration problems, needs, and opportunities; evaluation of potential restoration measures and subsequent development of alternatives; issuance of public and scoping notices and meetings; public and stakeholder workshops; and posting of the completed EIS on the Internet as well as in hard copy at readily accessible public locations.

5. Scoping. All private parties and Federal, State, and local agencies having an interest in the study are hereby notified of the initiation of the Currituck Sound EIS and are invited to comment at this time. An initial scoping letter dated 13 April 2001 was circulated during the early planning phase of this study. This Notice of Intent (NOI) constitutes an updated scoping request.

A formal scoping meeting is not planned at this time but may be held if it is determined that new information could be obtained that would not otherwise be available. All comments received as a result of this NOI and the previous scoping letter will be considered in the preparation of the EIS.

In accordance with the Council on Environmental Quality's (CEQ's) NEPA regulations (40 CFR 1506.1), Federal agencies with jurisdiction by law or with special expertise shall be invited to be Cooperating Agencies. Through an email dated 12 July 2010, Agency representatives were invited to participate in this study as a Cooperating Agency. To date, no formal Cooperating Agency status has been established with any Agencies.

6. Coordination. The USACE will consult with the U.S. Fish and Wildlife Service under the Endangered Species Act and the Fish and Wildlife Coordination Act; with the National Marine Fisheries Service under the Magnuson-Stevens Fishery Conservation and Management Act and the Endangered Species Act; and with the North Carolina State Historic Preservation Office under the National Historic Preservation Act. Additionally, the USACE will coordinate the DEIS with the North Carolina Division of Water Quality to assess the potential water quality impacts pursuant to Section 401 of the Clean Water Act, and with the North Carolina Division of Coastal Management to determine the project's consistency with the Coastal Zone Management Act. Other Agencies will be consulted with as required.

7. Availability of the Environmental Impact Statement. The earliest the DEIS will be available for public review would be February 2012. The DEIS or a Notice of Availability will be distributed to affected Federal, State, and local agencies, Indian tribes, and other interested parties.

Jefferson M. Ryscavage,
Colonel, U.S. Army, District Commander.

[FR Doc. 2011-16292 Filed 6-28-11; 8:45 am]

BILLING CODE 3720-58-P